DEPARTMENT OF ENERGY

Federal Energy Regulatory Commission

Notice of Application for Non-Project Use of Project Lands and Waters and Soliciting Comments, Motions to Intervene, and Protests

October 13, 2006.

Take notice that the following application has been filed with the Commission and is available for public inspection:

a. Application Type: Non-Project Use Of Project Lands And Waters.

b. Project No: 2232-526.

c. Date Filed: October 3, 2006.

d. Applicant: Duke Power Company LLC.

e. Name of Project: The Catawba-Wateree Project, which includes Lake Wylie.

f. Location: The proposed action will take place at Lake Wylie, which is located in Gaston County, North Carolina on the Catawba River, at the Reflection Point Subdivision.

g. Filed Pursuant to: Federal Power Act, 16 U.S.C. 791 (a) 825(r) and 799 and 801.

h. Applicant Contact: Mr. Kelvin K. Reagan, Senior Lake Services Representative, Duke Energy Corporation, P.O. Box 1006, Charlotte, NC 28201-1006; (704) 382-9386.

i. FERC Contact: Any questions on this notice should be addressed to Lesley Kordella at (202) 502-6406, or by e-mail: Lesley.Kordella@ferc.gov.

j. Deadline for filing comments and or motions: November 13, 2006.

All documents (original and eight copies) should be filed with: Ms. Magalie R. Salas, Secretary, Federal Energy Regulatory Commission, 888 First Street, NE., Washington DC 20426. Please include the project number (P-2232-526) on any comments or motions filed. Comments, protests, and interventions may be filed electronically via the internet in lieu of paper. See, 18 CFR 385.2001(a)(1)(iii) and the instructions on the Commission's Web site under the “e-Filing” link. The Commission strongly encourages e-filings.

k. Description of Request: Duke Power Company LLC, licensee for the Catawba Wateree Hydroelectric Project, has requested Commission approval to lease to the North Star Investors II, LLC, 2.31 total acres of project lands on Lake Wylie for a commercial/ residential marina to serve the Reflection Point Subdivision, a commercial residential development located in Gaston County, North Carolina. The marina will consist of four cluster docks with ninety-eight boat docking locations. There will be no dredging during construction and the docks will be constructed off site and floated into place during low peak recreation usage times.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “Comments”, “Recommendations for Terms and Conditions”, “Protest”, or “Motion to Intervene”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-17503 Filed 10-18-06; 8:45 am]

BILLING CODE 6717-01-P